DEPARTMENT OF JUSTICE

Office of Justice Programs

Agency Information Collection Activities: Proposed Collection; Comments Requested

ACTION: 30-Day notice of information collection under review: Revision of a currently approved collection; 2003 survey of state and local law enforcement agencies.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 68, Number 47, page 11582 on March 11, 2003, allowing for a 60 day comment period.

The purpose of this notice is to allow for an additional 30 days for public comment until July 7, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503, or facsimile (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: Revision of a currently approved collection.

(2) The title of the form/collection: 2003 Survey of State and Local Law Enforcement Agencies.

(3) The agency form number, if any, and the applicable components of the Department sponsoring the collection: The form numbers will be updated from CJ-38L and CJ-38S to CJ-44L and CJ-44S, Bureau of Justice Statistics, Office of Justice Programs, U.S. Department of Justice.

(4) Affected public who will be asked or required to respond, as well as brief abstract: Primary: State, Local or Tribal. Other: None. This information collection is a sample survey of State and local law enforcement agencies. The information will provide statistics on agency personnel, budgets, equipment, and policies and procedures.

(5) As estimate of the total number of respondents and the amount of time estimated for an average respondent to respond/reply: It is estimated that 3,065 respondents will complete a 2 hour form.

(6) An estimate of the total public burden (in hours) associated with the collection: The estimated total annual burden hours to complete the data collection is 6,130.

If additional information is required contact: Mrs. Brenda E. Dyer, Deputy Clearance Officer, United States Department of Justice, Information Management and Security Staff, Justice Management Division, Suite 1600, Patrick Henry Building, 601 D Street NW., Washington, DC 20530.

Dated: May 30, 2003.
Brenda E. Dyer,
Deputy Clearance Officer, United States Department of Justice.

[FR Doc. 03-14120 Filed 6-4-03; 8:45 am]

BILLING CODE 4410-18-M